DEPARTMENT OF ENERGY

Federal Energy Regulatory Commission

[EG17-35-000, EG17-36-000]

Grady Wind Energy Center, LLC; Innovative Solar 42, LLC; Notice of Effectiveness of Exempt Wholesale Generator Status

Take notice that during the month of February 2017, the status of the above-captioned entities as Exempt Wholesale Generators became effective by operation of the Commission's regulations. 18 CFR 366.7(a) (2017).

Dated: March 6, 2017.
Nathaniel J. Davis, Sr.,
Deputy Secretary.

[FR Doc. 2017-04729 Filed 3-9-17; 8:45 am]

BILLING CODE 6717-01-P